DEPARTMENT OF HEALTH AND HUMAN SERVICES

Centers for Disease Control and Prevention

[30Day-10-09BG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Field Test of Communication and Marketing Variables for Health Protection—New—National Center for Health Marketing/Coordinating Center for Health Information Service (NCHM/CCHIS), Centers for Disease Control and Prevention (CDC).

Background and Brief Description

CDC does not have a mechanism to assess and monitor the health communication and marketing components of health protection. While CDC does invest in formative and process evaluation of specific health communication and marketing programs and projects, the common elements rooted in communication and marketing theories and constructs are not identified across programs and projects, nor frequently compared after the fact to ascertain the underlying factors and dynamics that inform and shape individual and group behaviors and actions. The purpose of this project is to develop a core set of communication and marketing variables that can be used to inform CDC health protection programs and projects as well as track population-level changes over time.

The proposed data collection is to conduct a field test of the survey instrument focusing on the core communication and marketing constructs for health protection behaviors. The field test survey will be administered to a purposive sample of 1,925 respondents. Two modes of administration will be tested, telephone (both landline and cell) and self-administration via the Web. The telephone survey will be conducted in five geographical locations. The Web survey will use an on-going national consumer panel.

Rather than randomly sampling from the population, CDC has identified subpopulations of particular interest and interviewers will achieve quotas of completed interviews from each group. This purposive sampling is designed to reach adult persons who are vulnerable from a health protection perspective. It is of particular importance to interview those known to have low health literacy, that is, difficulty accessing and/or understanding health messages so CDC can work to meet their needs. Therefore, included in the target groups are the elderly, who may be somewhat isolated and for whom health messages may be confusing; people of low socioeconomic status (SES), whose level of education can be a barrier to comprehending and following health messages; and persons not fluent in English, for whom innovative ways of communicating health messages may be necessary. In addition to English, interviews will be conducted in three other languages, Spanish, Cantonese and Vietnamese. Members of the general population will be surveyed as well in order to provide a benchmark for the subpopulations of interest. Demographic variables that will be used to screen respondents into the subpopulations of interest include age, education, and race and ethnicity. Interviewing will continue with specific subpopulations until quotas are reached. Incentives will not be provided to survey respondents.

CDC will use the field test data to assess continuity of response patterns within each of the subgroups and to determine differences in administration time. In addition to subgroup population differences in attitudes, beliefs, and health behaviors, CDC will use the data to examine item-level mode effects, regional differences, and administrative/logistical barriers to guide the design of core measure surveys for other health protection behaviors. There is no cost to respondents other than their time to complete the survey. The total estimated annual burden hours are 1,222.

Estimated Annualized Burden Hours
Forms and respondents | Number of respondents | Number of responses per respondent | Average burden per response (in hours)
Screener | 19,250 | 1 | 2/60
Survey: General Population | 1,000 | 1 | 18/60
Survey: Elderly | 275 | 1 | 18/60
Survey: Low SES | 275 | 1 | 18/60
Survey: Low SES African American | 150 | 1 | 18/60
Survey: Hispanic | 75 | 1 | 18/60
Survey: Chinese | 75 | 1 | 18/60
Survey: Vietnamese | 75 | 1 | 18/60

Dated: October 8, 2009.
Maryam I. Daneshvar,
Acting Reports Clearance Officer, Centers for Disease Control and Prevention.

[FR Doc. E9-24941 Filed 10-15-09; 8:45 am]

BILLING CODE 4163-18-P